DEPARTMENT OF HOMELAND SECURITY

Federal Emergency Management Agency

[Docket ID FEMA-2024-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Assistant Administrator (Acting) for Risk Management, Federal Emergency Management Agency, Department of Homeland Security.

State and county | Location and case No. | Chief executive officer of community | Community map repository | Date of modification | Community No.
Arizona:
Maricopa (FEMA Docket No.: B-2429) | City of Glendale (23-09-1262P). | The Honorable Jerry Weiers, Mayor, City of Glendale, 9494 West Maryland Avenue, Glendale, AZ 85305. | City Hall, 5850 West Glendale Avenue, Glendale, AZ 85301. | Jul. 12, 2024 | 040045
Maricopa (FEMA Docket No.: B-2429) | City of Goodyear (23-09-1262P). | The Honorable Joe Pizzillo, Mayor, City of Goodyear, 1900 North Civic Square, Goodyear, AZ 85395. | Engineering and Development Services, 14455 West Van Buren Street, Suite D101, Goodyear, AZ 85338. | Jul. 12, 2024 | 040046
Maricopa (FEMA Docket No.: B-2429) | City of Surprise (23-09-0697P). | The Honorable Skip Hall, Mayor, City of Surprise, 16000 North Civic Center Plaza, Surprise, AZ 85374. | Public Works Department, Engineering Development Services, 16000 North Civic Center Plaza, Surprise, AZ 85374. | Jun. 28, 2024 | 040053
Maricopa (FEMA Docket No.: B-2429) | Unincorporated Areas of Maricopa County, (23-09-1262P). | The Honorable Jack Sellers, Chair, Board of Supervisors, Maricopa County, 301 West Jefferson Street, 10th Floor, Phoenix, AZ 85003. | Flood Control District of Maricopa County, 2801 West Durango Street, Phoenix, AZ 85009. | Jul. 12, 2024 | 040037
Pima (FEMA Docket No.: B-2429) | Unincorporated Areas of Pima County (23-09-1217P). | The Honorable Adelita Grijalva, Chair, Board of Supervisors, Pima County, 33 North Stone Avenue 11th Floor, Tucson, AZ 85701. | Pima County Flood Control District, 201 North Stone Avenue, 9th Floor, Tucson, AZ 85701. | Jul. 11, 2024 | 040073
Pinal (FEMA Docket No.: B-2417) | City of Maricopa (23-09-0166P). | The Honorable Nancy Smith, Mayor, City of Maricopa, 39700 West Civic Center Plaza, Maricopa, AZ 85138. | City Hall, 39700 West Civic Center Plaza, Maricopa, AZ 85138. | Jun. 14, 2024 | 040052
Pinal (FEMA Docket No.: B-2429) | Town of Superior (23-09-0243P). | The Honorable Mila Besich, Mayor, Town of Superior, P.O. Box 218, Superior, AZ 85173. | Town Hall, 199 North Lobb Avenue, Superior, AZ 85173. | Jun. 27, 2024 | 040119
California:
Contra Costa (FEMA Docket No.: B-2429) | City of Oakley (23-09-1104P). | The Honorable Anissa Williams, Mayor, City of Oakley, 3231 Main Street, Oakley, CA 94561. | Public Works and Engineering Department, 3231 Main Street, Oakley, CA 94561. | Jul. 24, 2024 | 060766
Fresno (FEMA Docket No.: B-2417) | City of Clovis (22-09-1501P). | The Honorable Lynne Ashbeck, Mayor, City of Clovis, 1033 5th Street, Clovis, CA 93612. | City Clerk's Office, Civic Center, 1033 5th Street, Clovis, CA 93612. | May 20, 2024 | 060044
Napa (FEMA Docket No.: B-2429) | Unincorporated Areas of Napa County (22-09-0692P). | The Honorable Belia Ramos, Chair, Board of Supervisors, Napa County, 1195 3rd Street, Suite 310, Napa, CA 94559. | Napa County, Public Works Department, 1195 3rd Street, Suite 101, Napa, CA 94559. | Jun. 26, 2024 | 060205
Riverside (FEMA Docket No.: B-2417) | City of Jurupa Valley (22-09-1654P). | The Honorable Chris Barajas, Mayor, City of Jurupa Valley, 8930 Limonite Avenue, Jurupa Valley, CA 92509. | City Hall, 8930 Limonite Avenue, Jurupa Valley, CA 92509. | Jun. 12, 2024 | 060286
Riverside (FEMA Docket No.: B-2417) | City of Perris (23-09-0343P). | The Honorable Michael Vargas, Mayor, City of Perris, 101 North D Street, Perris, CA 92570. | Engineering Department, 24 South D Street, Suite 100, Perris, CA 92570. | May 20, 2024 | 060258
Riverside (FEMA Docket No.: B-2429) | Unincorporated Areas of Riverside County (22-09-1288P). | The Honorable Chuck Washington, Chair, Board of Supervisors, Riverside County, 4080 Lemon Street, 5th Floor, Riverside, CA 92501. | Riverside County, Flood Control and Water Conservation District, 1995 Market Street, Riverside, CA 92501. | Jul. 10, 2024 | 060245
Sacramento (FEMA Docket No.: B-2417) | Unincorporated Areas of Sacramento County (23-09-0304P). | The Honorable Patrick Kennedy, Chair, Board of Supervisors, Sacramento County, 700 H Street, Suite 2450, Sacramento, CA 95814. | Sacramento County, Department of Water Resources, 827 7th Street, Suite 301, Sacramento, CA 95814. | Jun. 19, 2024 | 060262
San Diego (FEMA Docket No.: B-2417) | City of Santee (22-09-1269P). | The Honorable John Minto, Mayor, City of Santee, 10601 Magnolia Avenue, Santee, CA 92071. | City Hall, 10601 Magnolia Drive, Santee, CA 92071. | Jun. 10, 2024 | 060703
San Diego (FEMA Docket No.: B-2429) | Unincorporated Areas of San Diego County (23-09-0964P). | The Honorable Nora Vargas, Chair, Board of Supervisors, San Diego County, 1600 Pacific Highway Room 335, San Diego, CA 92101. | San Diego County Flood Control District, Department of Public Works, 5510 Overland Avenue, Suite 410, San Diego, CA 92123. | Jun. 28, 2024 | 060284
San Luis Obispo (FEMA Docket No.: B-2417) | City of San Luis Obispo (22-09-0998P). | The Honorable Erica A. Stewart, Mayor, City of San Luis Obispo, 990 Palm Street, San Luis Obispo, CA 93401. | Community Development, Public Works Department, 990 Palm Street, San Luis Obispo, CA 93401. | Jun. 24, 2024 | 060310
Yuba (FEMA Docket No.: B-2417) | Unincorporated Areas of Yuba County (23-09-0313P). | The Honorable Don Blaser, Chair, Board of Supervisors, Yuba County, 915 8th Street, Suite 109, Marysville, CA 95901. | Yuba County, Public Works Department, 915 8th Street, Suite 125, Marysville, CA 95901. | Jun. 6, 2024 | 060427
Hawaii: Maui (FEMA Docket No.: B-2429) | Maui County (22-09-1030P). | The Honorable Richard T. Bissen, Jr., Mayor, County of Maui, 200 South High Street, Kalana O Maui Building, 9th Floor, Wailuku, HI 96793. | County of Maui Planning Department, One Main Plaza, 2200 Main Street, Suite 315, Wailuku, HI 96793. | Jun. 17, 2024 | 150003
Nevada:
Clark (FEMA Docket No.: B-2417) | City of Henderson (23-09-1206P). | The Honorable Michelle Romero, Mayor, City of Henderson, City Hall, 240 South Water Street, Henderson, NV 89015. | Public Works Department, 240 South Water Street, Henderson, NV 89015. | Jun. 10, 2024 | 320005
Washoe (FEMA Docket No.: B-2429) | City of Reno (23-09-0241P). | The Honorable Hillary L. Schieve, Mayor, City of Reno, P.O. Box 1900, Reno, NV 89505. | City Hall, 1 East 1st Street, Reno, NV 89501. | Jul. 18, 2024 | 320020

[FR Doc. 2024-18880 Filed 8-22-24; 8:45 am]

BILLING CODE 9110-12-P